NUCLEAR REGULATORY COMMISSION

[NRC-2015-0099]

Sizing of Large Lead-Acid Storage Batteries

AGENCY: Nuclear Regulatory Commission.

ACTION: Draft regulatory guide, request for comment.

SUMMARY: The U.S. Nuclear Regulatory Commission (NRC) is issuing draft regulatory guide (DG), DG-1311, “Sizing of Large Lead-Acid Batteries” for public comment. This guidance is proposed revision 1 of regulatory guide (RG), RG 1.212, “Sizing of Large Lead-Acid Storage Batteries.” This DG endorses, with certain clarifications, the Institute of Electrical and Electronic Engineers (IEEE) Standard 485-2010, “IEEE Recommended Practice for Sizing Lead-Acid Batteries for Stationary Applications.” This DG describes methods acceptable to the NRC staff for complying with the design requirements for stationary battery applications in full float operation for nuclear power plants.

DATES: Submit comments by June 19, 2015. Comments received after this date will be considered if practical to do so, but the NRC is able to ensure consideration only for comments received on or before this date. Although a time limit is given, comments and suggestions in connection with items for inclusion in guides currently being developed or improvements in all published guides are encouraged at any time.

ADDRESSES: You may submit comment by any of the following methods (unless this document describes a different method for submitting comments on a specific subject):

• Federal Rulemaking Web site: Go to http://www.regulations.gov and search for Docket ID NRC-2015-0099. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: O12-H08, U.S. Nuclear Regulatory Commission, Washington, DC 20555-0001.

For additional direction on accessing information and submitting comments, see “Obtaining Information and Submitting Comments” in the SUPPLEMENTARY INFORMATION section of this document.

FOR FURTHER INFORMATION CONTACT: Liliana Ramadan, telephone: 301-415-7000, email: Liliana.Ramadan@nrc.gov or Mark Orr, telephone: 301-415-7000, email: Mark.Orr@nrc.gov. Both are staff of the Office of Nuclear Regulatory Research, U.S. Nuclear Regulatory Commission, Washington, DC 20555-0001.

SUPPLEMENTARY INFORMATION:

I. Obtaining Information and Submitting Comments

A. Obtaining Information

Please refer to Docket ID NRC-2015-0099 when contacting the NRC about the availability of information regarding this document. You may obtain publicly-available information related to this action by the following methods:

• Federal Rulemaking Web site: Go to http://www.regulations.gov and search for Docket ID NRC-2015-0099.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The DG is electronically available in ADAMS under Accession No. ML14031A265.

• NRC's PDR: You may examine and purchase copies of public documents at the NRC's PDR, Room O1-F21, One White Flint North, 11555 Rockville Pike, Rockville, Maryland 20852.

B. Submitting Comments

Please include Docket ID NRC-2015-0099 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public such information as methods that are acceptable to the NRC staff for implementing specific parts of the NRC's regulations, techniques that the staff uses in evaluating specific problems or postulated accidents, and data that the staff needs in its review of applications for permits and licenses.

The DG, entitled, “Sizing of Large Lead Acid Storage Batteries” is temporarily identified by its task number, DG-1311. This DG-1311 is proposed revision 1 of RG 1.212. This DG endorses, with certain clarifications, IEEE Standard 485-2010, “IEEE Recommended Practice for Sizing Lead-Acid Batteries for Stationary Applications.” This DG describes methods acceptable to the staff for complying with the design requirements for stationary battery applications in full float operation for nuclear power plants.

Copies of IEEE standards may be purchased from the Institute of Electrical and Electronics Engineers Service Center, 445 Hoes Lane, P.O. Box 1331, Piscataway, NJ 08855, or through the IEEE's public Web site at http://www.ieee.org/publications_standards/index.html.

III. Backfitting and Issue Finality

Issuing of this DG, if finalized, would not constitute backfitting as defined in § 50.109 of Title 10 of the Code of Federal Regulations (10 CFR), (the Backfit Rule), and would not otherwise be inconsistent with the issue finality provisions in 10 CFR part 52. As discussed in the “Implementation” section of this DG, the NRC has no current intention to impose this DG on current holders of Part 50 operating licenses or Part 52 combined licenses.

This DG, if finalized, could be applied to applications for operating licenses and combined licenses docketed by the NRC as of the date of issuance of the final RG, as well as future applications for operating licenses and combined licenses submitted after the issuance of the RG. Such action would not constitute backfitting as defined in 10 CFR 50.109(a)(1) or be otherwise inconsistent with the applicable issue finality provision in 10 CFR part 52, inasmuch as such applicants or potential applicants, with exceptions not applicable here, are not within the scope of entities protected by the Backfit Rule or the relevant issue finality provisions in part 52.

Dated at Rockville, Maryland, this 14th day of April, 2015.
For the Nuclear Regulatory Commission.
Harriet Karagiannis,
Acting Chief, Regulatory Guidance and Generic Issues Branch, Division of Engineering, Office of Nuclear Regulatory Research.

[FR Doc. 2015-08963 Filed 4-17-15; 8:45 am]

BILLING CODE 7590-01-P